DEPARTMENT OF THE INTERIOR

Bureau of Land Management

[NM-210-1430-ET; NMNM 64057]

Notice of Proposed Withdrawal and Opportunity for Public Meeting; New Mexico

AGENCY: Bureau of Land Management, Interior.

ACTION: Notice.

SUMMARY: The Bureau of Land Management proposes to withdraw 16.45 acres of public land from surface entry and mining for a period of 20 years to protect the Farmington Administrative Site. The land was previously withdrawn by Public Land Order (PLO) No. 6616, which expired July 10, 2006.

DATES: Comments and requests for a public meeting must be received by March 5, 2007.

ADDRESSES: Comments and meeting requests should be sent to the BLM Farmington Assistant Field Manager for Resources, 1235 La Plata Highway, Farmington, New Mexico 87401.

FOR FURTHER INFORMATION CONTACT: Mary Jo Albin, BLM Farmington Field Office, at the address above or 505-599-6332.

SUPPLEMENTARY INFORMATION: The Bureau of Land Management has filed an application requesting the Secretary of the Interior to withdraw, for a period of 20 years and subject to valid existing rights, the land described below from settlement, sale, location or entry under the general land laws, including the mining laws, but not the mineral leasing laws. The proposed withdrawal would replace the withdrawal created by PLO No. 6616 (51 FR 25205), which expired on July 10, 2006. The public land proposed for continued withdrawal is described as follows:

New Mexico Principal Meridian

T. 29 N., R. 13 W.,

Sec. 7, lots 5, 11, and 12.

The area described contains 16.45 acres in San Juan County.

The purpose of the proposed withdrawal is to continue protection of the Federal investment in the Farmington Administrative Site.

The withdrawal would not alter the applicability of those public land laws governing the use of the land under lease, license, or permit or governing disposal of the mineral or vegetative resources other than under the mining laws.

The use of a right-of-way or interagency or cooperative agreement would not adequately constrain nondiscretionary uses and, therefore, would not protect the Federal investment in the Farmington Administrative Site.

There are no suitable alternative sites available since the Farmington Administrative Site is already constructed on the above-described public land.

No water rights would be needed to fulfill the purpose of the withdrawal.

For a period of 90 days from the date of publication of this notice, all persons who wish to submit comments, suggestions, or objections in connection with the proposed withdrawal may present their views in writing to the BLM Farmington Assistant Field Manager for Resources at the address noted above.

Comments, including names and street addresses of respondents, will be available for public review at the BLM Farmington Field Office at the address noted above during regular business hours 7:45 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the BLM Farmington Assistant Field Manager for Resources at the address above within 90 days from the date of publication of this notice. If the authorized officer determines that a public meeting will be held, a notice of the time and place will be published in the Federal Register and a local newspaper at least 30 days before the scheduled date of the meeting.

This withdrawal proposal will be processed in accordance with the applicable regulations set forth in 43 CFR part 2300.

For a period of 2 years from the date of publication of this notice in the Federal Register, the public lands described above will remain segregated as specified above unless the application is denied or canceled or the withdrawal is approved prior to that date. Licenses, permits, cooperative agreements, or discretionary land use authorizations of a temporary nature which will not significantly impact the administrative site may be allowed with the approval of the authorized officer of the BLM during the segregative period.

(Authority: 43 CFR 2310.3-1)

Dated: November 15, 2006.
Joel E. Farrell,
Assistant Field Manager for Resources, Farmington Field Office.

[FR Doc. E6-20567 Filed 12-4-06; 8:45 am]

BILLING CODE 4310-VB-P